DEPARTMENT OF ENERGY

Federal Energy Regulation Commission

[Docket No. RP00-289-001]

Tennessee Gas Pipeline Company; Notice of Compliance Filing

July 11, 2000.

Take notice that on June 30, 2000, Tennessee Gas Pipeline Company (Tennessee) tendered for filing as part of its FERC Gas Tariff, Fifth Revised Volume No. 1, the following tariff sheets with an effective date of August 1, 2000:

Sixteenth Revised Sheet No. 26

Eight Revised Sheet No. 413

Tennessee states that it is also including with this filing the information concerning Ocean State Power I and Ocean State Power II (Ocean State) requested by the Commission.

Tennessee states that the filing is being made in compliance with the Commission's order issued June 15, 2000 in Docket No. RP00-289 (91 FERC ¶ 61,266 (2000). In the October 15th order, the Commission directed Tennessee, within 15 days of issuance of the order, to (1) respond the issues raised by Ocean State, (2) list the tariff as containing material deviations the contracts with Ocean State and Orchard Gas Corporation (MassPower) and (3) delete footnote 4 transmittal letter comply with the requirements of the order.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17964 Filed 7-14-00; 8:45 am]

BILLING CODE 6717-01-M